POSTAL SERVICE

Privacy Act of 1974; System of Records

AGENCY: Postal Service™.

ACTION: Notice of a modified system of records.

SUMMARY: The United States Postal Service™ (USPS™) is proposing to revise one General and one Customer Privacy Act Systems of Records. These updates are being made to support an initiative to promote individual and team efficiency and productivity through competition and the use of analytics.

DATES: These revisions will become effective without further notice on June 26, 2023, unless comments received on or before that date result in a contrary determination.

ADDRESSES: Comments may be submitted via email to the Privacy and Records Management Office, United States Postal Service Headquarters (uspsprivacyfedregnotice@usps.gov). Arrangements to view copies of any written comments received, to facilitate public inspection, will be made upon request.

FOR FURTHER INFORMATION CONTACT: Janine Castorina, Chief Privacy and Records Management Officer, Privacy and Records Management Office at uspsprivacyfedregnotice@usps.gov or 202-268-2000.

SUPPLEMENTARY INFORMATION:

I. Background

This notice is in accordance with the Privacy Act requirement that agencies publish their systems of records in the Federal Register when there is a revision, change, or addition, or when the agency establishes a new system of records.

The Postal Service is proposing to modify the following SORs to support competition-based performance analysis to support productivity and team collaboration:

• USPS SOR 100.200 Employee Performance Records

• USPS SOR 830.000 Customer Service and Correspondence

II. Rationale for Changes to USPS Privacy Act Systems of Records

The Postal Service continuously seeks to improve its efficiency and improve productivity. To that end, the Postal Service seeks to implement a customer relationship management software application that takes existing sales employee data, customer metrics, and employee goal data, and creates a dashboard to improve accountability and promote friendly competition amongst team members. This application will allow managers to set metrics and establish targeted goals, then allow employees to view their status on those goals.

To support the implementation of this application, the Postal Service will revise two Systems of Records to reflect this initiative.

USPS 100.200 Employee Performance Records will be revised to reflect the performance tracking and metric capabilities of the new application. USPS 100.200 will be modified as follows:

—Two new purposes, 5 and 6

—Two new Categories of Records, 4 and 5

USPS 830.000 will be revised to reflect the integration with existing workplace and Customer Relationship Management data. USPS 830.000 will be modified as follows:

—System Location has been revised to reflect updated organization name

—Three new purposes, 8 through 10

—Additions to Categories of Individuals to reflect the new collection points

—Two new Categories of Records, 7 and 8

—Record Source Categories has been modified to reflect the new method of data collection

—Policies of Practices for Retrieval of Records has been updated to reflect the new methods of retrievability

—Policies And Practices For Retention And Disposal Of Records has been updated to reflect retention times for the new data.

III. Description of the Modified System of Records

Pursuant to 5 U.S.C. 552a (e)(11), interested persons are invited to submit written data, views, or arguments on this proposal. A report of the proposed revisions has been sent to Congress and to the Office of Management and Budget for their evaluations. The Postal Service does not expect these amended systems of records to have any adverse effect on individual privacy rights. The notices for USPS 100.200 Employee Performance Records and USPS SOR 830.000 Customer Service and Correspondence are provided below in their entirety:

SYSTEM NAME AND NUMBER:

USPS 100.200 Employee Performance Records.

SECURITY CLASSIFICATION:

None.

SYSTEM LOCATION:

USPS facilities where employee performance is evaluated or measured.

SYSTEM MANAGER(S):

Vice President, Human Resources, United States Postal Service, 475 L'Enfant Plaza SW, Washington, DC 20260.

Vice President, Government Relations and Public Policy, United States Postal Service, 475 L'Enfant Plaza SW, Washington, DC 20260.

AUTHORITY FOR MAINTENANCE OF THE SYSTEM:

39 U.S.C. 401, 410, 1001, 1005, and 1206.

PURPOSE(S) OF THE SYSTEM:

1. To provide managers and supervisors with decision making information for training needs, promotion, assignment considerations, or other job-related actions.

2. To administer achievement award programs and pay for performance.

3. To improve relations and communication between managers and employees by soliciting employee feedback, and to improve management and supervisor leadership skills.

4. To document USPS Business interactions and meetings for historical purposes.

5. To track employee performance and productivity through dashboard metrics and analysis.

6. To set and track employee goals relating to Customer Relationship Management Software metrics.

CATEGORIES OF INDIVIDUALS COVERED BY THE SYSTEM:

Current and former USPS employees, including supervisors and managers who are responsible for a work location.

CATEGORIES OF RECORDS IN THE SYSTEM:

1. Employee information: Name, Social Security Number, Employee Identification Number, postal assignment information, work contact information, username, email address, finance number(s), duty location, and pay location.

2. Employee performance information: Records related to individual performance evaluation; reports about supervisors and managers who are responsible for a work location; employee recognition; and safe driver awards.

3. USPS Business information: Records maintained regarding an employee's use of record tracking system; records maintained regarding employee's participation and/or presence representing the USPS in meetings and discussions; information regarding USPS meetings, such as time, place, topics discussed, and attendees.

4. Employee scorecard analysis: Scorecard Metrics, Scorecard Activity Score, Scorecard Objective Score, Scorecard Smart Target, Scorecard Target, Leaderboard Standings, Competition Name, Competition Results, Formula Metrics, Formula Builder Metrics, Accolade Achievements, Goal Name, Goal Description, Goal Category, Goal Visibility, Goal Owner, Goal Category, Workflow Name, Workflow Description, Workflow Hierarchy Level, Workflow Time Group, Competitor Name, Competitor Rank, Competitor Score, Competitor Selection, Group Name, Workflow Metric, Workflow Message, Workflow Image, Workflow Entities, Workflow Action, Workflow Status, Workflow Rank, Workflow Operator, Workflow Value, Workflow Schedule, Workflow Creator, Accolade Name.

5. Customer Relationship Management Software Metrics: Opportunity ID, Approval Status, Stage Name, Sales Area, Sales District, Sales Title, Opportunity Owner, Owner Alias, Created Date, Current Stage Entry Date, Opportunity Name, Actual Start Date, Opportunistic Strategy, Product Group, Product Category, Account, Expected State, Lead Source, Lead Source Type, Created By, Amount Year-to-date, User Area, User District, Amount, Account Name, Opportunity Name, Lead Source Category, Age of Opportunity, Company Overview, Business Need, Solution, Results, Point of Entry Area, Point of Entry City State, Alias, Full Name, Title, Year-to-date Revenue, Tear-to-date Target, Over/Under Target, Percentage Over/Under Target, Year-to-date Supply, Over/Under Year-to-date Supply, Percentage Over/Under Year-to-date Supply, Current Quarter to Date Sales Revenue, Current Entire Quarter Target, Remain to Quarter Target, Percentage Over/Under Quarter Target, EAS Level, Number Closed Sales Pending Sales Representative Submission, Number Closed Sales Pending Management Approval, Update Status Message, Company ID, User ID, Service, Action, Service Access ID, Service Response, Account Street, Account City, Account State, Account ZIP Code, Region, Report District, Number of Sales, Dollar Amount, Report Area, Report Title, Registration Match, Product Category, Actual Mailing, Actual Shipping, Actual Total, Interaction Type, Number of Calls, Average Talk Time, Longest Call, Resource Name, Rowlev, Interaction ID, Start Time, End Time, Representative, Call Info, Technical Result, Incoming Phone Number, Sort, Call Type, Start Est, End Est, Status, Result Reason, Talk Time, Est Logout, Est Playback Duration, Customer Relationship Software Link, Priority Mail Number of Sales, Priority Mail Dollar Amount, Parcel/Package Number of Sales, Parcel/Packages Dollar Amount, First Class Mail Number of Sales, First Class Mail Dollar Amount, Closed Sales Area, Closed Sales District, Pricing Category, Contract Status, New Sale, Opportunity Record Type, VP Group, Lead Owner, Days Since Lead was Created, Lead ID Link, Days Owned, Lead Age, Lead Contact, Region/Team, Total Phone Calls, Total In-Person Visits, Total Video Conferences with Customer, Total Emails, Number of Active Reps with Activity, Average Phone Calls Per Rep, Average In-Person Visits Per Rep, Average Video Conferences with Customer, Average Emails Per Rep, Assigned to Area, Assigned to District, Type 2, Task/Event Record, Related To, Subject, Priority, Task, Assignee, Assigned Alias, Description, Seller's Name, Virtual Meetings, Appointment Scheduled Last 14 Days, Appointments Scheduled Next 14 Days, Appointments Kept, Stalled Opportunities, Funnel Health, Stage 4 Opportunity Review, Stage 5 Opportunities Not Submitted, Directed Activities Review, Coachable Moments, Action Items.

RECORD SOURCE CATEGORIES:

Employees and employees' supervisor or manager.

ROUTINE USES OF RECORDS MAINTAINED IN THE SYSTEM, INCLUDING CATEGORIES OF USERS AND PURPOSES OF SUCH USES:

Standard routine uses 1. through 9. apply. In addition:

a. When records about the receipt of an award by an employee, including driver safety records, are of news interest and consistent with the public's right to know, the records may be disclosed to the news media or the National Safety Council.

POLICIES AND PRACTICES FOR STORAGE OF RECORDS:

Automated database, computer storage media, digital files, and paper files.

POLICIES AND PRACTICES FOR RETRIEVAL OF RECORDS:

By employee name, email address, username, Social Security Number, Employee Identification Number, or duty or pay location.

POLICIES AND PRACTICES FOR RETENTION AND DISPOSAL OF RECORDS:

1. Pay for performance evaluation records are retained 5 years. Individual performance evaluations are retained 5 years or until separation of the employee, whichever comes first.

2. Incentive award records are retained 7 years. Length of service award records are retained 1 year. Non-USPS awards are retained 2 years. Letters of commendation and appreciation (excluding permanent copies filed in the OPF or eOPF) are retained 2 years.

3. Employee survey records are retained 5 years.

4. Safe Driver Award records are retained 2 years from date of separation, expiration of license, rescission of authorization, transfer of driver into a nondriving status, or other transfer, whichever comes first.

5. Active employee data is retained until the employee no longer is active or has access to the tracking system; USPS business information which may contain employee names is retained indefinitely for historical purposes.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections. Computers are protected by mechanical locks, card key systems, or other physical access control methods.

The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedure and Record Access Procedures.

NOTIFICATION PROCEDURES:

Individuals wanting to know if information about them is maintained in this system must address inquiries to the facility head where currently or last employed. Headquarters employees must submit inquiries to Human Resources or Government Relations and Public Policy, 475 L'Enfant Plaza SW, Washington, DC 20260.

Inquiries must include full name, Social Security Number or Employee Identification Number, name and address of facility where last employed, and dates of USPS employment.

EXEMPTIONS PROMULGATED FOR THE SYSTEM:

None.

HISTORY:

June 17, 2011, 76 FR 35483; April 29, 2005, 70 FR 22516.

SYSTEM NAME AND NUMBER:

830.000 Customer Service and Correspondence

SECURITY CLASSIFICATION:

None.

SYSTEM LOCATION:

USPS Customer Experience, Headquarters; Integrated Business Solutions Services Centers; the National Customer Support Center (NCSC); districts, Post Offices contractor sites; and detached mailing units at customer sites

SYSTEM MANAGER(S):

Chief Customer and Marketing Officer and Executive Vice President, United States Postal Service, 475 L'Enfant Plaza SW, Washington, DC 20260.

AUTHORITY FOR MAINTENANCE OF THE SYSTEM:

39 U.S.C. 401, 403, and 404.

PURPOSE(S) OF THE SYSTEM:

1. To enable review and response services for customer inquiries and concerns regarding USPS and its products and services.

2. To ensure that customer accounts and needs are attended to in a timely manner.

3. To enhance the customer experience by improving the security of Change of Address (COA) and Hold Mail processes.

4. To protect USPS customers from becoming potential victims of mail fraud and identity theft.

5. To identify and mitigate potential fraud in the COA and Hold Mail processes.

6. To verify a customer's identity when applying for COA and Hold Mail services.

7. To support (or facilitate) the administration of Operation Santa, Letters to Santa, or similar programs.

8. To track employee performance and productivity through dashboard metrics and analysis.

9. To set and track employee goals relating to Customer Relationship Management Software metrics

10. To create competitions to encourage productivity and promote team effectiveness.

CATEGORIES OF INDIVIDUALS COVERED BY THE SYSTEM:

This system contains records relating to customers who contact customer service by online and offline channels. This includes customers making inquiries via email, 1-800-ASKUSPS, other toll-free contact centers, or the Business Service Network (BSN), as well as customers with product-specific service or support issues.

This system also contains records relating to employees who utilize the dashboard analysis and productivity application.

CATEGORIES OF RECORDS IN THE SYSTEM:

1. Customer information: Customer and key contact name, mail and email address, phone and/or fax number; customer ID(s); title, role, and employment status; company name, location, type and URL; vendor and/or contractor information.

2. Identity verification information: Last four digits of Social Security Number (SSN), username and/or password, DU-N-S Number, mailer ID number, publisher ID number, security level and clearances, and business customer number.

3. Product and/or service use information: Product and/or service type, product numbers, technology specifications, quantity ordered, logon and product use dates and times, case number, pickup number, article number, and ticket number.

4. Payment information: Credit and/or debit card number, type, and expiration date; billing information; checks, money orders, or other payment method.

5. Customer preferences: Drop ship sites and media preference.

6. Service inquiries and correspondence: Contact history; nature of inquiry, dates and times, comments, status, resolution, and USPS personnel involved.

7. Employee scorecard analysis: Scorecard Metrics, Scorecard Activity Score, Scorecard Objective Score, Scorecard Smart Target, Scorecard Target, Leaderboard Standings, Competition Name, Competition Results, Formula Metrics, Formula Builder Metrics, Accolade Achievements, Goal Name, Goal Description, Goal Category, Goal Visibility, Goal Owner, Goal Category, Workflow Name, Workflow Description, Workflow Hierarchy Level, Workflow Time Group, Competitor Name, Competitor Rank, Competitor Score, Competitor Selection, Group Name, Workflow Metric, Workflow Message, Workflow Image, Workflow Entities, Workflow Action, Workflow Status, Workflow Rank, Workflow Operator, Workflow Value, Workflow Schedule, Workflow Creator, Accolade Name.

8. Customer Relationship Management Software Metrics: Opportunity ID, Approval Status, Stage Name, Sales Area, Sales District, Sales Title, Opportunity Owner, Owner Alias, Created Date, Current Stage Entry Date, Opportunity Name, Actual Start Date, Opportunistic Strategy, Product Group, Product Category, Account, Expected State, Lead Source, Lead Source Type, Created By, Amount Year-to-date, User Area, User District, Amount, Account Name, Opportunity Name, Lead Source Category, Age of Opportunity, Company Overview, Business Need, Solution, Results, Point of Entry Area, Point of Entry City State, Alias, Full Name, Title, Year-to-date Revenue, Tear-to-date Target, Over/Under Target, Percentage Over/Under Target, Year-to-date Supply, Over/Under Year-to-date Supply, Percentage Over/Under Year-to-date Supply, Current Quarter to Date Sales Revenue, Current Entire Quarter Target, Remain to Quarter Target, Percentage Over/Under Quarter Target, EAS Level, Number Closed Sales Pending Sales Representative Submission, Number Closed Sales Pending Management Approval, Update Status Message, Company ID, User ID, Service, Action, Service Access ID, Service Response, Account Street, Account City, Account State, Account ZIP Code, Region, Report District, Number of Sales, Dollar Amount, Report Area, Report Title, Registration Match, Product Category, Actual Mailing, Actual Shipping, Actual Total, Interaction Type, Number of Calls, Average Talk Time, Longest Call, Resource Name, Rowlev, Interaction ID, Start Time, End Time, Representative, Call Info, Technical Result, Incoming Phone Number, Sort, Call Type, Start Est, End Est, Status, Result Reason, Talk Time, Est Logout, Est Playback Duration, Customer Relationship Software Link, Priority Mail Number of Sales, Priority Mail Dollar Amount, Parcel/Package Number of Sales, Parcel/Packages Dollar Amount, First Class Mail Number of Sales, First Class Mail Dollar Amount, Closed Sales Area, Closed Sales District, Pricing Category, Contract Status, New Sale, Opportunity Record Type, VP Group, Lead Owner, Days Since Lead was Created, Lead ID Link, Days Owned, Lead Age, Lead Contact, Region/Team, Total Phone Calls, Total In-Person Visits, Total Video Conferences with Customer, Total Emails, Number of Active Reps with Activity, Average Phone Calls Per Rep, Average In-Person Visits Per Rep, Average Video Conferences with Customer, Average Emails Per Rep, Assigned to Area, Assigned to District, Type 2, Task/Event Record, Related To, Subject, Priority, Task, Assignee, Assigned Alias, Description, Seller's Name, Virtual Meetings, Appointment Scheduled Last 14 Days, Appointments Scheduled Next 14 Days, Appointments Kept, Stalled Opportunities, Funnel Health, Stage 4 Opportunity Review, Stage 5 Opportunities Not Submitted, Directed Activities Review, Coachable Moments, Action Items.

RECORD SOURCE CATEGORIES:

For Customer Service and Correspondence: Customers and, for call center operations, commercially available sources of names, addresses, and telephone numbers.

For Employee Dashboard Analysis: Customer Relationship Management Software.

ROUTINE USES OF RECORDS MAINTAINED IN THE SYSTEM, INCLUDING CATEGORIES OF USERS AND THE PURPOSES OF SUCH USES:

Standard routine uses 1. through 7., 10., and 11. apply.

POLICIES AND PRACTICES FOR STORAGE OF RECORDS:

Automated databases, computer storage media, and paper.

POLICIES OF PRACTICES FOR RETRIEVAL OF RECORDS:

By customer name, customer ID(s), mail or email address, phone number, customer account number, case number, article number, pickup number, last four digits of SSN, ZIP Code, other customer identifier, employee name, employee email.

POLICIES AND PRACTICES FOR RETENTION AND DISPOSAL OF RECORDS:

1. Customer care records for usps.com products are retained 90 days.

2. Records related to 1-800-ASK-USPS, Delivery Confirmation service, Special Services, and international call centers are retained 1 year.

3. Customer complaint letters are retained 6 months and automated complaint records are retained 3 years.

4. Business Service Network records are retained 5 years.

5. Records related to Operation Santa, Letters to Santa, or similar programs are retained 6 months after the new calendar year.

6. Other records are retained 2 years after resolution of the inquiry.

7. Records relating to Dashboard Metric Analysis are retained for 1 year.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmissions are protected by encryption.

RECORD ACCESS PROCEDURES:

Requests for access must be made in accordance with the Notification Procedure above and USPS Privacy Act regulations regarding access to records and verification of identity under 39 CFR 266.5.

CONTESTING RECORD PROCEDURES

See Notification Procedure and Record Access Procedures above.

NOTIFICATION PROCEDURES:

Customers wanting to know if information about them is maintained in this system of records must address inquiries to the system manager in writing. Inquiries should include name, address, and other identifying information.

EXEMPTIONS PROMULGATED FROM THIS SYSTEM:

None.

HISTORY:

December 12, 2018, 83 FR 63912; June 27, 2012, 77 FR 38342; April 29, 2005, 70 FR 22516.

Tram T. Pham,
Attorney, Ethics and Legal Compliance.

[FR Doc. 2023-11112 Filed 5-24-23; 8:45 am]

BILLING CODE 7710-12-P